DEPARTMENT OF VETERANS AFFAIRS

[OMB Control No. 2900-0376]

Proposed Information Collection (Agent Orange Registry Code Sheet; VA Form 10-9009) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify areas for improvement in clinical training programs.

DATES: Written comments and recommendations on the proposed collection of information should be received on or before August 22, 2016.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0376” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Agent Orange Registry Code Sheet, VA Form 10-9009.

OMB Control Number: 2900-0376.

Type of Review: Extension of a currently approved collection.

Abstract:VA employees obtain demographic data from existing records. The examining physician, Environmental Health (EH) Coordinator (formerly identified as the Agent Orange coordinator)/or other designated personnel obtain the remainder of the information during the Agent Orange registry physical examination process. The information obtained from the Veteran is entered directly onto an electronic VA Agent Orange Form 10-9009, Agent Orange Registry Worksheet (formerly identified as an Agent Orange Registry Code Sheet), via a secured Web site http://vaww.registries.aac.va.gov by VA personnel and transmitted directly to the Environmental Agents Service (EAS) Agent Orange Registry database located at the Austin Information Technology Center (AITC), Austin, TX. Edits are automatically accomplished at the time of entry. The EAS Registries Web site allows you to edit pretty much all the information that has been entered. Some VA facilities will enter the information into the EAS Registries Web site while the Veteran is sitting in front of them. Other facilities will have the Veteran and the examiner complete the Agent Orange Worksheet on paper form, and then later enter the worksheet data into the EAS Registries Web site. VHA Handbook 1302.01, dated 9/5/06 states: “AOR worksheets and dated follow-up letters must be scanned, or made electronic, and attached to an appropriately titled CPRS progress note.”

The registry provides a mechanism to catalogue prominent symptoms, reproductive health, and diagnoses and to communicate with Agent Orange Veterans. VA keeps Veterans informed on research findings or new compensation policies through periodic newsletters. The voluntary, self-selected nature of this registry makes it valuable for health surveillance; however, it is not designed or intended to be a research tool and therefore, the results cannot be generalized to represent all Agent Orange Veterans.

Affected Public: Individuals or households.

Estimated Annual Burden: 6,667 hours.

Estimated Average Burden per Respondent: 20 minutes.

Frequency of Response: Annually.

Estimated Annual Responses: 20,000.

By direction of the Secretary:
Cynthia Harvey-Pryor,
Program Specialist, Enterprise Records Management Service, Office of Privacy and Records Management, Department of Veterans Affairs.

[FR Doc. 2016-14677 Filed 6-21-16; 8:45 am]

BILLING CODE 8320-01-P